DEPARTMENT OF AGRICULTURE

Natural Resources Conservation Service

Comprehensive Management of Nutria Herbivory Damage in Coastal Louisiana and Coastwide Nutria Control Program (LA-03b) in Coastal Louisiana

AGENCY: Natural Resources Conservation Service, USDA.

ACTION: Notice of finding of no significant impact.

SUMMARY: Pursuant to section 102 (2) (C) of the National Environmental Policy Act of 1969; the Council on Environmental Quality Guidelines (40 CFR part 1500); and the Natural Resources Conservation Service Guidelines (7 CFR part 650); the Natural Resources Conservation Service, U.S. Department of Agriculture, gives notice that an environmental impact statement is not being prepared for Comprehensive Management of Nutria Herbivory Damage in Coastal Louisiana and the Coastwide Nutria Control Program (LA-03b), Coastal Louisiana.

FOR FURTHER INFORMATION, CONTACT: Donald W. Gohmert, State Conservationist, Natural Resources Conservation Service, 3737 Government Street, Alexandria, Louisiana 71302; telephone (318) 473-7751.

SUPPLEMENTARY INFORMATION: The environmental assessment of the federally assisted action indicates that the action will not cause significant local, regional, or national impacts on the environment. As a result of these findings, Donald W. Gohmert, State Conservationist, has determined that preparation and review of an environmental impact statement is not needed for this project.

The recommended plan consists of (1) implementing an incentive payment program to encourage the harvest of up to 400,000 nutria annually from coastal Louisiana by payment of $4.00 per nutria tail to registered program participants (Coastwide Nutria Control Program LA-03b), (2) investigating techniques to promote revegetation of damaged sites with native vegetation, and (3) pursuing additional funding and/or funding sources to conduct more comprehensive revegetation. The goal of the recommended plan is to reestablish the ecological balance (plant and animal) that existed when the number of nutria harvested was high. It is predicted that the plan would reduce the conversion of fresh, intermediate, and brackish marsh to open water by about 15,000 acres over 20 years.

The Notice of Finding of No Significant Impact (FONSI) has been forwarded to the Environmental Protection Agency and to various federal, state, and local agencies and interested parties. A limited number of copies of the FONSI are available to fill single copy requests at the above address. Basic data collected during the environmental assessment are on file and may be reviewed by contacting Donald W. Gohmert.

No administrative action on implementation of the proposal will be taken until 30 days after the date of this publication in the Federal Register.

Donald W. Gohmert,
State Conservationist.

[FR Doc. 02-25490 Filed 10-7-02; 8:45 am]

BILLING CODE 3410-16-P